DEPARTMENT OF STATE

[Public Notice 6326]

Notice of Availability of the Final Environmental Assessment and A Finding of No Significant Impact for the Proposed PMI Frontera Juarez Pipeline Project

August 15, 2008.

AGENCY: Department of State.

ACTION: Notice of Availability of the Final Environmental Assessment and A Finding of No Significant Impact for the Proposed PMI Frontera Juarez Pipeline Project.

SUMMARY: This notice announces the availability of the Final Environmental Assessment and a Finding of No Significant Impact for the Proposed PMI Frontera Juarez Pipeline Project.

On January 18, 2008, PMI Services North America (“PMI”) applied for a Presidential permit to construct, connect, operate and maintain a 10.75-inch liquid hydrocarbon (gasoline and diesel) pipeline for the transportation of liquid hydrocarbon products between the United States and Mexico, to be located at the international border between the United States and Mexico, near San Elizario, Texas. Currently, the refined products are transported across the international border via trucks from El Paso to Ciudad Jua rez. The Frontera Juárez Pipeline would displace this mode of delivery with the proposed net effect of increasing safety and decreasing the negative impact to the local environment.

Executive Order 13337 of April 30, 2004, as amended, delegates to the Secretary of State the President's authority to receive applications for permits for the construction, connection, operation, or maintenance of facilities, including pipelines, for the exportation or importation of petroleum, petroleum products, coal, or other fuels at the border of the United States and to issue or deny such Presidential Permits upon a national interest determination. The Executive Order directs the Secretary of State to refer the application and pertinent information to, and to request the views of, the heads of certain agencies before issuing a Permit and authorizes the Secretary to consult with other interested federal and state officials, as appropriate. The Executive Order also authorizes Federal Register notification of receipt of Presidential permit applications and for public comments on those applications. The functions assigned to the Secretary have been further delegated within the Department of State.

The Department of State published in the Federal Register a Notification of Receipt and Notice of Intent to prepare an Environment Assessment (EA) regarding the PMI Application for a permit on March 26, 2008 (73 FR 16090-01). That notification advised the public that the Department intended to prepare an EA on the application and solicited public comment. The Department's Notice of Availability of the draft EA and request for public comment was published in the Federal Register on April 29, 2008 (73 FR 23301-01), seeking comments by May 29, 2008. The Department received public comments in response to its two notices and has taken them into account in preparing the Final Environmental Assessment on the PMI Application.

As required by Executive Order 13337, PMI's pipeline application and a Draft Environmental Assessment were also transmitted to the relevant federal agencies for their review and comment on May 22, 2007. The Department of State received no objections from federal agencies regarding the issuance of a permit.

In accordance with the National Environmental Policy Act of 1969 (“NEPA”), 42 U.S.C. 4321-4370f, the Council of Environmental Quality Regulations for Implementing the Procedural Provisions of NEPA, 40 CFR parts 1500-1508, and the Department's regulations for the implementation of NEPA, 22 CFR part 161, PMI has prepared a Final Environmental Assessment (“FEA”) under the guidance and supervision of the Department, with full public participation, including a public meeting and ample opportunity for written and oral public comment on the project. Based on the FEA and the record created as part of the Department's evaluation of the PMI application, on August 16, 2008 the Department determined that “issuance of a Presidential Permit authorizing construction, connection, operation and maintenance of the proposed Frontera Juarez Pipeline would not have a significant impact on the quality of the human environment within the United States.” Accordingly, the Department on that date adopted a “Finding Of No Significant Impact” (FONSI) and determined that an environmental impact statement will not be prepared on the PMI application.

FOR FURTHER INFORMATION CONTACT: The Final Environmental Assessment addressing this action is on file and may be reviewed by interested parties, along with the Finding of No Significant Impact, at the Department of State, 2200 C Street NW., Room 4843, Washington, DC 20520 (Attn: Mr. J. Brian Duggan, Tel. 202-647-1291). The above documents may also be requested by e-mail at DugganJB@state.gov.

Issued in Washington, DC on August 15, 2008.
Stephen J. Gallogly,
Director, Office of International Energy and Commodity Policy, Department of State.

[FR Doc. E8-19415 Filed 8-20-08; 8:45 am]

BILLING CODE 4710-07-P